DEPARTMENT OF LABOR

Employment and Training Administration

[TA-W-51,767]

Fishing Vessel (F/V) Imperial, Funter Bay, AK; Dismissal of Application for Reconsideration

Pursuant to 29 CFR 90.18(c) an application for administrative reconsideration was filed with the Director of the Division of Trade Adjustment Assistance for workers at Fishing Vessel (F/V) Imperial, Funter Bay, Alaska. The application contained no new substantial information which would bear importantly on the Department's determination. Therefore, dismissal of the application was issued.

TA-W-51,767; Fishing Vessel (F/V) Imperial Funter Bay, Alaska (October 23, 2003)

Signed at Washington, DC, this 5th day of November 2003.
Timothy Sullivan,
Director, Division of Trade Adjustment Assistance.

[FR Doc. 03-29132 Filed 11-20-03; 8:45 am]

BILLING CODE 4510-30-P